DEPARTMENT OF STATE

[Public Notice: 7655]

Notice of Meeting of the Advisory Committee on International Law

A meeting of the Advisory Committee on International Law will take place on Thursday, December 8, 2011, from 9:30 a.m. to approximately 5:30 p.m., at the George Washington University Law School (Michael K. Young Faculty Conference Center, 5th Floor), 2000 H St. NW., Washington, DC. The meeting will be chaired by the Legal Adviser of the Department of State, Harold Hongju Koh, and will be open to the public up to the capacity of the meeting room. It is anticipated that the agenda of the meeting will cover a range of current international legal topics, including recent developments in the Middle East; mechanisms of international lawmaking; systems of control in investor state arbitration; federalism and international law; and the possibility of a new Restatement of Foreign Relations Law.

Members of the public who wish to attend the session should, by Friday, December 2, 2011, notify the Office of the Legal Adviser (telephone: (202) 776-8323, email: AndersonSR@state.gov) of their name, professional affiliation, address, and telephone number. A valid photo ID is required for admittance. A member of the public who needs reasonable accommodation should make his or her request by December 2, 2011. Requests made after that time will be considered but might not be possible to accommodate.

Dated: November 15, 2011.
Scott R. Anderson,
Office of International Claims and Investment Disputes, Office of the Legal Adviser, Executive Director, Advisory Committee on International Law, U.S. Department of State.

[FR Doc. 2011-30015 Filed 11-18-11; 8:45 am]

BILLING CODE 4710-08-P